DEPARTMENT OF AGRICULTURE

Office of the Secretary

7 CFR Parts 1b, 2, 8, 12, and 23

Federal Crop Insurance Corporation

7 CFR Parts 407 and 457

Agricultural Research Service

7 CFR Part 550

Commodity Credit Corporation

7 CFR Parts 1410, 1436, 1437, 1468, and 1469

National Institute of Food and Agriculture

7 CFR Parts 3400, 3401, 3402, 3403, 3404, 3405, 3406, 3407, 3411, 3415, and 3430

RIN 0524-AA63

Establishment of New Agency; Revision of Delegations of Authority

AGENCY: Office of the Secretary, Federal Crop Insurance Corporation, Agricultural Research Service, Commodity Credit Corporation, and National Institute of Food and Agriculture, USDA.

ACTION: Final rule.

SUMMARY: This document amends a number of regulations of the Department of Agriculture (USDA) principally to reflect the establishment of the National Institute of Food and Agriculture and the abolishment of the Cooperative State Research, Education, and Extension Service, as mandated by section 251(f)(2) of the Department of Agriculture Reorganization Act of 1994 (7 U.S.C. 6971(f)(2)) (as added by section 7511 of the Food, Conservation, and Energy Act of 2008 (FCEA), Pub. L. 110-246). This rule also makes a number of miscellaneous amendments to the delegations of authority in 7 CFR part 2, as summarized below.

DATES: This rule is effective January 27, 2011.

FOR FURTHER INFORMATION CONTACT: Matthew Lockhart; Senior Policy Specialist; National Institute of Food and Agriculture; U.S. Department of Agriculture; STOP 2299; 1400 Independence Avenue, SW.; Washington, DC 20250-2299; Voice: 202-570-7410; Fax: 202-401-7752; E-mail: mlockhart@nifa.usda.gov.

SUPPLEMENTARY INFORMATION:

Establishment of National Institute of Food and Agriculture

On October 1, 2009, the Secretary of Agriculture (Secretary) established within USDA the National Institute of Food and Agriculture (NIFA), as mandated by section 251(f)(2) of the Department of Agriculture Reorganization Act of 1994 (Reorganization Act) (7 U.S.C. 6971(f)(2)). Section 251(f)(2) was added by section 7511 of the Food, Conservation, and Energy Act of 2008 (FCEA), Public Law 110-246. Pursuant to the FCEA, the Secretary transferred to NIFA, effective October 1, 2009, the authorities (including all budget authorities, available appropriations, and personnel), duties, obligations, and related legal and administrative functions prescribed by law or otherwise granted to the Secretary, the Department, or any other agency or official of the Department under the research, education, economic, cooperative State research programs, cooperative extension and education programs, international programs, and other functions and authorities delegated by the Under Secretary for Research, Education, and Economics (“REE”) to the Administrator of the Cooperative State Research, Education, and Extension Service (CSREES) pursuant to 7 CFR 2.66, and any and all other authorities administered by the Administrator of CSREES. Accordingly, the agency known as CSREES was abolished upon establishment of NIFA.

This rule makes a number of nomenclature amendments to various USDA regulations to reflect the establishment of NIFA and the abolishment of CSREES. For example, references to “CSREES” are changed to “NIFA,” references to “CSREES Administrator” are changed to “NIFA Director,” etc.

Delegations of Authority

This rule also makes other changes to existing delegations in 7 CFR part 2 by correcting references and citations and removing obsolete authorities. Additionally, the pollinator protection authorities in section 1672(h) of the Food, Agriculture, Conservation, and Trade Act of 1990 (7 U.S.C. 5925(h)), as added by section 7204 of the Food, Conservation, and Energy Act of 2008, Public Law 110-246, are being delegated among NIFA, the Agricultural Research Service, and the Animal and Plant Health Inspection Service.

This rulemaking also includes changes to some of the delegations previously reserved to the Secretary. The authorities at § 2.21(b)(1)(i), (b)(1)(ii), and (b)(1)(iii) have been removed as they are related to the administration of two of the NIFA formula grant programs—McIntire-Stennis Cooperative Forestry Research Program (16 U.S.C. 582a-1) and the Animal Health and Disease Research Program (7 U.S.C. 3195).

NIFA Regulations (at 7 CFR 3400s)

Within the next three years, NIFA will be establishing subparts under 7 CFR part 3430—Competitive and Noncompetitive Nonformula Federal Assistance Programs—General Award Administrative Provisions for the Special Research Grants Program (currently at 7 CFR part 3400), Rangeland Research Grants Program (currently at 7 CFR part 3401), Food and Agricultural Sciences National Needs Graduate and Postgraduate Fellowship Grants Program (currently at 7 CFR part 3402), Higher Education Challenge Grants Program (currently at 7 CFR part 3405), and Biotechnology Risk Assessment Research Grants Program (currently at 7 CFR part 3415). Please note subpart L for the 1890 Institutional Capacity Building Grants Program (currently at 7 CFR part 3406) will be promulgated by December 31, 2010.

Section 7406 of FCEA amended the Competitive, Special, and Facilities Research Grant Act (7 U.S.C. 450i) to create the Agriculture and Food Research Initiative and, thus, eliminated the National Research Initiative (NRI). Hence, NIFA is canceling the regulations at 7 CFR part 3411, National Research Initiative Competitive Grants Program. Please note that these regulations at 7 CFR part 3411 focused primarily on pre-award and award policies and procedures. Since there are some active NRI awards, 7 CFR part 3430 Subpart E—Post-Award and Closeout, will apply (i.e., post-award policies and procedures) to these active awards, except as described under “DATES: Effective Date” in 74 FR 45736 (Sept. 4, 2009).

Classification

This rule relates to internal agency management. Accordingly, pursuant to 5 U.S.C. 553, notice of proposed rulemaking and opportunity for comment are not required, and this rule may be made effective less than 30 days after publication in the Federal Register. This rule also is exempt from the provisions of Executive Orders 12866 and 12988. This action is not a rule as defined by the Regulatory Flexibility Act, Public Law 96-354, and the Small Business Regulatory Fairness Enforcement Act, 5 U.S.C. 801 et seq., and thus is exempt from the provisions of those Acts. This rule contains no information collection or recordkeeping requirements under the Paperwork Reduction Act of 1995 (44 U.S.C. 3501 et seq.).

List of Subjects in 7 CFR Parts 1b, 2, 8, 12, 23, 407, 457, 550, 1410, 1436, 1437, 1468, 1469, 3400, 3401, 3402, 3403, 3404, 3405, 3406, 3407, 3411, 3415, and 3430

Authority delegations (Government agencies), Agricultural research, Agricultural education, Agricultural extension, Federal assistance, Food and agricultural sciences, Grants program—agriculture, Grants administration.

Under the authority of the Food, Conservation, and Energy Act of 2008 (FCEA), Public Law 110-246, Title 7 of the Code of Federal Regulations is amended accordingly as set forth below:

PART 1b—NATIONAL ENVIRONMENTAL POLICY ACT

1. The authority citation for part 1b continues to read as follows:

Authority: 5 U.S.C. 301; 42 U.S.C. 4321 et seq.; E.O. 11514, 3 CFR, 1966-1970 Comp., p. 902, as amended by E.O. 11991, 3 CFR, 1978 Comp., p. 123; E.O. 12114, 3 CFR, 1980 Comp., p. 356; 40 CFR 1507.3.

§ 1b.4 [Amended]

2. In § 1b.4, remove and reserve paragraph (b)(3).

PART 2—DELEGATIONS OF AUTHORITY BY THE SECRETARY OF AGRICULTURE AND GENERAL OFFICERS OF THE DEPARTMENT

3. The authority citation for part 2 continues to read as follows:

Authority: 7 U.S.C. 6912(a)(1); 5 U.S.C. 301; Reorganization Plan No. 2 of 1953, 3 CFR 1949-1953 Comp., p. 1024.

§§ 2.21, 2.61, 2.65, 2.66 [Amended]

4. In the table below, for each section indicated in the left column, remove the term or phrase indicated in the middle column from wherever it appears in the section, and add the term or phrase indicated in the right column:

Section | Remove | Add
2.21(a)(1)(cli) | Cooperative State Research, Education, and Extension Service | National Institute of Food and Agriculture.
2.21(a)(1)(cliii) | Cooperative State Research, Education, and Extension Service | National Institute of Food and Agriculture.
2.61(a)(2) | Administrator, Cooperative State Research, Education, and Extension Service | Director, National Institute of Food and Agriculture.
2.65(a)(59) | Cooperative State Research, Education, and Extension Service | National Institute of Food and Agriculture.
2.66(a) introductory text | Under Secretary for Research, Education, and Extension | Under Secretary for Research, Education, and Economics (Under Secretary).
2.66(a) introductory text | Administrator, Cooperative State Research, Education, and Extension Service | Director, National Institute of Food and Agriculture, who shall report directly to the Under Secretary.
2.66(a)(119) | Cooperative State Research, Education, and Extension Service | National Institute of Food and Agriculture.
2.66(a)(121) | Cooperative State Research, Education, and Extension Service | National Institute of Food and Agriculture.

5. Amend § 2.21 as follows:

a. Remove and reserve paragraphs (a)(1)(xcvi), (b)(1)(i), (b)(1)(ii), and (b)(1)(iii); and

b. Revise paragraphs (a)(1)(lii), (a)(1)(lxxx), and (a)(1)(cliv), to read as follows:

§ 2.21 Under Secretary for Research, Education, and Economics.

(a) * * *

(1) * * *

(lii) Establish and administer competitive grants to Hispanic-serving Institutions for the purpose of promoting and strengthening the ability of Hispanic-serving Institutions to carry out education, applied research, and related community development programs (7 U.S.C. 3241).

* * * * *

(lxxx) Administer a competitive high priority research and extension grants program in specified subject areas (7 U.S.C. 5925), except as delegated to the Under Secretary for Marketing and Regulatory Programs in § 2.22(a)(2)(xli).

* * * * *

(xcvi) [Reserved]

* * * * *

(cliv) Consider the results of the annual review performed by the National Agricultural Research, Extension, Education, and Economics Advisory Board regarding the relevance to priorities of the funding of all agricultural research, extension, or education activities conducted or funded by the Department and the adequacy of funding, when formulating each request for proposals, and evaluating proposals, involving an agricultural research, extension, or education activity funded, on a competitive basis, by the Department; and solicit and consider input from persons who conduct or use agricultural research, extension, or education regarding the prior year's request for proposals for each activity funded on a competitive basis (7 U.S.C. 7613(c)).

* * * * *

(b) * * *

(1) * * *

(i) [Reserved]

(ii) [Reserved]

(iii) [Reserved]

* * * * *

6. Amend § 2.22 by adding new paragraph (a)(2)(xli) to read as follows:

§ 2.22 Under Secretary for Marketing and Regulatory Programs.

(a) * * *

(2) * * *

(xli) Section 1672(h)(3) of the Food, Agriculture, Conservation, and Trade Act of 1990 (7 U.S.C. 5925(h)(3)) regarding honey bee pest and pathogen surveillance.

* * * * *

7. Amend § 2.65 as follows:

a. Remove and reserve paragraph (a)(47); and

b. Add new paragraph (a)(113), to read as follows:

§ 2.65 Administrator, Agricultural Research Service.

(a) * * *

(47) [Reserved]

* * * * *

(113) Carry out pollinator health research activities (7 U.S.C. 5925(h)(2)).

* * * * *

8. Amend § 2.66 as follows:

a. Remove and reserve paragraphs (a)(49), (a)(56), (a)(116), and (a)(118); and

b. Revise paragraphs (a)(42), (a)(107) and (a)(122), to read as follows:

§ 2.66 Director, National Institute of Food and Agriculture.

(a) * * *

(42) Administer a competitive high priority research and extension grants program in specified subject areas (7 U.S.C. 5925), except as delegated to the Administrator, Agricultural Research Service in § 2.65(a)(113) and the Administrator, Animal and Plant Health Inspection Service in § 2.80(a)(47).

* * * * *

(49) [Reserved]

* * * * *

(56) [Reserved]

* * * * *

(107) Establish and administer competitive grants to Hispanic-serving Institutions for the purpose of promoting and strengthening the ability of Hispanic-serving Institutions to carry out education, applied research, and related community development programs (7 U.S.C. 3241).

* * * * *

(116) [Reserved]

* * * * *

(118) [Reserved]

* * * * *

(122) Consider the results of the annual review performed by the National Agricultural Research, Extension, Education, and Economics Advisory Board regarding the relevance to priorities of the funding of all agricultural research, extension, or education activities conducted or funded by the Department and the adequacy of funding, when formulating each request for proposals, and evaluating proposals, involving an agricultural research, extension, or education activity funded, on a competitive basis, by the Department; and solicit and consider input from persons who conduct or use agricultural research, extension, or education regarding the prior year's request for proposals for each activity funded on a competitive basis (7 U.S.C. 7613(c)).

* * * * *

9. Amend § 2.80 by adding new paragraph (a)(47) to read as follows:

§ 2.80 Administrator, Animal and Plant Health Inspection Service.

(a) * * *

(47) Section 1672(h)(3) of the Food, Agriculture, Conservation, and Trade Act of 1990 (7 U.S.C. 5925(h)(3)) regarding honey bee pest and pathogen surveillance.

* * * * *

PART 8—4-H CLUB NAME AND EMBLEM

10. The authority citation for part 8 continues to read as follows:

Authority: 5 U.S.C. 301; 18 U.S.C. 707.

§§ 8.2, 8.6, 8.7, 8.9 [Amended]

11. In the table below, for each section indicated in the left column, remove the term or phrase indicated in the middle column from wherever it appears in the section, and add the term or phrase indicated in the right column:

Section | Remove | Add
8.2 | Administrator of the Cooperative State Research, Education, and Extension Service | Director of the National Institute of Food and Agriculture.
8.6(a) introductory text | Administrator of the Cooperative State Research, Education, and Extension Service | Director of the National Institute of Food and Agriculture.
8.6(b) | Administrator of the Cooperative State Research, Education, and Extension Service | Director of the National Institute of Food and Agriculture.
8.7(a)(4) | Administrator of the Cooperative State Research, Education, and Extension Service | Director of the National Institute of Food and Agriculture.
8.9(a)(3) | Administrator of the Cooperative State Research, Education, and Extension Service | Director of the National Institute of Food and Agriculture.

11a. Amend § 8.3 by:

a. Revising the definition of Cooperative Extension Service;

b. Removing the definition of Cooperative State Research, Education, and Extension Service, United States Department of Agriculture; and

c. Adding a definition of National Institute of Food and Agriculture in alphabetical order to read as follows:

§ 8.3 Definitions.

* * * * *

Cooperative Extension Service, as used in this part includes the entire Cooperative Extension System consisting of the National Institute of Food and Agriculture, United States Department of Agriculture; the State Cooperative Extension Services; and the County Cooperative Extension Services.

* * * * *

National Institute of Food and Agriculture as used in this part means the Federal agency within the United States Department of Agriculture that administers Federal agricultural cooperative extension programs.

* * * * *

PART 12—HIGHLY ERODIBLE LAND AND WETLAND CONSERVATION

12. The authority citation for part 12 continues to read as follows:

Authority: 16 U.S.C. 3801 et seq.

13. Amend § 12.2 as follows:

a. Amend paragraph (a) to remove the definition of CSREES; and

b. Amend paragraph (a) to add a definition of NIFA in alphabetical order to read as follows:

§ 12.2 Definitions.

* * * * *

NIFA means the National Institute of Food and Agriculture, an agency of USDA which is generally responsible for coordinating the information and educational programs of USDA.

* * * * *

14. Amend § 12.6 by revising paragraph (d) to read as follows:

§ 12.6 Administration.

* * * * *

(d) Administration by NIFA. The NIFA shall coordinate the related information and education program for USDA concerning implementation of this rule.

* * * * *

PART 23—STATE AND REGIONAL ANNUAL PLANS OF WORK

15. The authority citation for part 23 continues to read as follows:

Authority: Sec. 508, 86 Stat. 674 (7 U.S.C. 2668).

§§ 23.2, 23.10 [Amended]

16. In the table below, for each section indicated in the left column, remove the term or phrase indicated in the center column from wherever it appears in the section, and add the term or phrase indicated in the right column:

Section | Remove | Add
23.2(a) | Administrators of the Extension Service and the Cooperative State Research Service for extension and research programs respectively | Director of the National Institute of Food and Agriculture.
23.10(a) | Extension Service and the Cooperative State Research Service | National Institute of Food and Agriculture.

PART 407—GROUP RISK PLAN OF INSURANCE REGULATIONS

17. The authority citation for part 407 continues to read as follows:

Authority: 7 U.S.C. 1506(l), 1506(o).

§ 407.9 [Amended]

18. Amend § 407.9 by:

a. Revising the definition of Agricultural experts; and

b. Revising the definition of Organic agricultural industry to read as follows:

§ 407.9 Group risk plan common policy.

* * * * *

Agricultural experts. Persons who are employed by the National Institute of Food and Agriculture or the agricultural departments of universities, or other persons approved by FCIC, whose research or occupation is related to the specific crop or practice for which such expertise is sought.

* * * * *

Organic agricultural industry. Persons who are employed by the following organizations: Appropriate Technology Transfer for Rural Areas, Sustainable Agriculture Research and Education or the Cooperative Extension System, the agricultural departments of universities, or other persons approved by FCIC, whose research or occupation is related to the specific organic crop or practice for which such expertise is sought.

* * * * *

PART 457—COMMON CROP INSURANCE REGULATIONS

19. The authority citation for part 457 continues to read as follows:

Authority: 7 U.S.C. 1506(l) and 1506(o).

20. Amend § 457.106 by revising the definition of Good farming practices to read as follows:

§ 457.106 Texas citrus tree crop insurance provisions.

* * * * *

Good farming practices. The cultural practices generally in use in the county for the trees to have normal growth and vigor and recognized by the National Institute of Food and Agriculture as compatible with agronomic and weather conditions in the county.

* * * * *

21. Amend § 457.130 by revising the definition of Good farming practices to read as follows:

§ 457.130 Macadamia tree crop insurance provisions.

* * * * *

Good farming practices. The cultural practices generally in use in the county for the crop to have normal growth and vigor, and are those recognized by the National Institute of Food and Agriculture as compatible with agronomic and weather conditions in the area.

* * * * *

22. Amend § 457.137 by revising the definition of Good farming practices to read as follows:

§ 457.137 Green pea crop insurance provisions.

* * * * *

Good farming practices. The cultural practices generally in use in the county for the crop to make normal progress toward maturity and produce at least the yield used to determine the production guarantee and are those required by the green pea processor contract with the processing company, and recognized by the National Institute of Food and Agriculture as compatible with agronomic and weather conditions in the county.

* * * * *

23. Amend § 457.149 by revising the definition of Adapted to read as follows:

§ 457.149 Table grape crop insurance provisions.

* * * * *

Adapted. Varieties that are recognized by the National Institute of Food and Agriculture as compatible with agronomic and weather conditions in the county.

* * * * *

24. Amend § 457.151 by revising the definition of Good farming practices to read as follows:

§ 457.151 Forage seeding crop insurance provisions.

* * * * *

Good farming practices. The cultural practices generally in use in the county for the crop to make normal progress toward maturity and produce a normal stand, and are those recognized by the National Institute of Food and Agriculture as compatible with agronomic and weather conditions in the county.

* * * * *

25. Amend § 457.154 by revising the definition of Good farming practices to read as follows:

§ 457.154 Processing sweet corn crop insurance provisions.

* * * * *

Good farming practices. The cultural practices generally in use in the county for the crop to make normal progress toward maturity and produce at least the yield used to determine the production guarantee and are those required by the sweet corn processor contract with the processing company, and recognized by the National Institute of Food and Agriculture as compatible with agronomic and weather conditions in the county.

* * * * *

26. Amend § 457.155 by revising the definition of Good farming practices to read as follows:

§ 457.155 Processing bean crop insurance provisions.

* * * * *

Good farming practices. The cultural practices generally in use in the county for the crop to make normal progress toward maturity and produce at least the yield used to determine the production guarantee and are those required by the bean processor contract with the processing company, and recognized by the National Institute of Food and Agriculture as compatible with agronomic and weather conditions in the county.

* * * * *

PART 550—GENERAL ADMINISTRATIVE POLICY FOR NON-ASSISTANCE COOPERATIVE AGREEMENTS

27. The authority citation for part 550 continues to read as follows:

Authority: Section 1472(b) of the National Agricultural Research, Extension, and Teaching Policy Act of 1977, as amended (7 U.S.C. 3318(b)).

§ 550.28 [Amended]

28. In the table below, for the section indicated in the left column, remove the term or phrase indicated in the middle column from wherever it appears in the section, and add the term or phrase indicated in the right column:

Section | Remove | Add
550.28(b)(1) | Cooperative State Research, Education, and Extension Service (CSREES) | National Institute of Food and Agriculture (NIFA).

PART 1410—CONSERVATION RESERVE PROGRAM

29. The authority citation for part 1410 continues to read as follows:

Authority: 15 U.S.C. 714b and 714c; 16 U.S.C. 3801-3847.

§ 1410.1 [Amended]

30. In the table below, for the section indicated in the left column, remove the term or phrase indicated in the middle column from wherever it appears in the section, and add the term or phrase indicated in the right column:

Section | Remove | Add
1410.1(h) | Cooperative State Research, Education, and Extension Service | National Institute of Food and Agriculture (NIFA).

PART 1436—FARM STORAGE FACILITY LOAN PROGRAM REGULATIONS

31. The authority citation for part 1436 continues to read as follows:

Authority: 7 U.S.C. 7971 and 8789; 15 U.S.C. 714-714p.

§§ 1436.6, 1436.9 [Amended]

32. In the table below, for each section indicated in the left column, remove the term or phrase indicated in the middle column from wherever it appears in the section, and add the term or phrase indicated in the right column:

Section | Remove | Add
1436.6(a)(5) | Cooperative State Research, Education, and Extension Service (CSREES) | National Institute of Food and Agriculture (NIFA).
1436.6(b)(6) | CSREES | NIFA.
1436.9(d)(3)(iii) | CSREES | NIFA.

PART 1437—NONINSURED CROP DISASTER ASSISTANCE PROGRAM

33. The authority citation for part 1437 continues to read as follows:

Authority: 7 U.S.C. 7333; 15 U.S.C. 714 et seq.; and 48 U.S.C. 1469.

§ 1437.102 [Amended]

34b. In the table below, for each section indicated in the left column, remove the term or phrase indicated in the middle column from wherever it appears in the section, and add the term or phrase indicated in the right column:

Section | Remove | Add
1437.102(b)(4) | Cooperative State Research, Education, and Extension Service | National Institute of Food and Agriculture.

34a. Amend § 1437.3 by revising the definition of Good farming practices to read as follows:

§ 1437.3 Definitions.

* * * * *

Good farming practices means the cultural practices generally used for the crop to make normal progress toward maturity and produce at least the individual unit approved yield. These practices are normally those recognized by the National Institute of Food and Agriculture as compatible with agronomic and weather conditions.

* * * * *

PART 1468—CONSERVATION FARM OPTION

35. The authority citation for part 1468 continues to read as follows:

Authority: 16 U.S.C. 3839bb.

§ 1468.3 [Amended]

36. Amend § 1468.3 by revising the definition of Local work group to read as follows:

§ 1468.3 Definitions.

* * * * *

Local work group means representatives of FSA, the National Institute of Food and Agriculture (NIFA), the conservation district, and other Federal, State, and local government agencies, including Tribes and Resource Conservation and Development councils, with expertise in natural resources who consult with NRCS on decisions related to CFO implementation.

* * * * *

PART 1469—CONSERVATION SECURITY PROGRAM

37. The authority citation for part 1469 continues to read as follows:

Authority: 16 U.S.C. 3830 et seq.

§ 1469.3 [Amended]

38. Amend § 1469.3 by revising the definition of Local work group to read as follows:

§ 1469.3 Definitions.

* * * * *

Local work group means representatives of local offices of FSA, the National Institute of Food and Agriculture, the conservation district, and other Federal, State, and local government agencies, including Indian Tribes, with expertise in natural resources who advise NRCS on decisions related to implementation of USDA conservation programs.

* * * * *

PART 3400—SPECIAL RESEARCH GRANTS PROGRAM

39. The authority citation for part 3400 continues to read as follows:

Authority: 7 U.S.C. 450i(c).

§§ 3400.1, 3400.2, 3400.4, 3400.5, 3400.6, 3400.7, 3400.8, 3400.9, 3400.10, 3400.14, 3400.20 [Amended]

40. In the table below, for each section indicated in the left column, remove the term or phrase indicated in the middle column from wherever it appears in the section, and add the term or phrase indicated in the right column:

Section | Remove | Add
3400.1(b) | Administrator of CSREES | Director of NIFA.
3400.2(c) | Administrator | Director.
3400.2(e) | Administrator | Director.
3400.2(g) | Administrator | Director.
3400.2(i) | Administrator | Director.
3400.4(c)(14) | Administrator | Director.
3400.4(c)(15) | Administrator | Director.
3400.5(a) | Administrator | Director.
3400.5(a) | CSREES | NIFA.
3400.5(b) | Administrator's | Director's.
3400.5(b) | Administrator | Director.
3400.6(a) | Administrator | Director.
3400.6(b)(1)(i) | Administrator | Director.
3400.6(b)(1)(vi) | Administrator | Director.
3400.7(b)(1) | Administrator | Director.
3400.7(c) | Administrator | Director.
3400.8 | CSREES | NIFA.
3400.9 | Administrator | Director.
3400.9 | Administrator's | Director's.
3400.10 | Administrator | Director.
3400.14(b) | Administrator | Director.
3400.20(a) | CSREES | NIFA.
3400.20(c) | CSREES | NIFA.
3400.20(d) | CSREES | NIFA.

40a. Amend § 3400.2 by revising paragraph (a) to read as follows:

§ 3400.2 Definitions.

* * * * *

(a) Director means the Director of the National Institute of Food and Agriculture (NIFA) and any other officer or employee of the Department of Agriculture to whom the authority involved may be delegated.

* * * * *

PART 3401—RANGELAND RESEARCH GRANTS PROGRAM

41. The authority citation for part 3401 continues to read as follows:

Authority: Section 1470 of the National Agricultural Research, Extension and Teaching Policy Act of 1977 (7 U.S.C. 3316).

§§ 3401.1, 3401.2, 3401.6, 3401.7, 3401.8, 3401.9, 3401.10, 3401.11, 3401.12, 3401.16 [Amended]

42. In the table below, for each section indicated in the left column, remove the term or phrase indicated in the middle column from wherever it appears in the section, and add the term or phrase indicated in the right column:

Section | Remove | Add
3401.1(a) | Administrator of the Cooperative State Research, Education, and Extension Service (CSREES) | Director of the National Institute of Food and Agriculture (NIFA).
3401.2(a) | Administrator means the Administrator of CSREES | Director means the Director of NIFA.
3401.2(c) | Administrator | Director.
3401.2(e) | Administrator | Director.
3401.2(g) | Administrator | Director.
3401.2(i) | Administrator | Director.
3401.6(c)(13)(i) | CSREES | NIFA.
3401.6(c)(14) | Administrator | Director.
3401.6(c)(15) | Administrator | Director.
3401.6(c)(16) | CSREES's | NIFA's.
3401.6(c)(16) | CSREES | NIFA.
3401.6(c)(16) | Form CSREES-1234 | Form NIFA-1234.
3401.7(a) | Administrator | Director.
3401.7(a) | CSREES | NIFA.
3401.7(b) | Administrator's | Director's.
3401.7(b) | Administrator | Director.
3401.8(a) | Administrator | Director.
3401.8(b)(1)(i) | Administrator | Director.
3401.8(b)(1)(vi) | Administrator | Director.
3401.9(b)(1) | Administrator | Director.
3401.9(c) | Administrator | Director.
3401.10 | CSREES | NIFA.
3401.11 | Administrator | Director.
3401.11 | Administrator's | Director's.
3401.12 | Administrator | Director.
3401.16(b) | Administrator | Director.

PART 3402—FOOD AND AGRICULTURAL SCIENCES NATIONAL NEEDS GRADUATE AND POSTGRADUATE FELLOWSHIP GRANTS PROGRAM

43. The authority citation for part 3402 continues to read as follows:

Authority: 7 U.S.C. 3316.

§§ 3402.1, 3402.3, 3402.6, 3402.7, 3402.10, 3402.11, 3402.12, 3402.14, 3402.20, 3402.21, 3402.23 [Amended]

44. In the table below, for each section indicated in the left column, remove the term or phrase indicated in the middle column from wherever it appears in the section, and add the term or phrase indicated in the right column:

Section | Remove | Add
3402.1(a) | Cooperative State Research, Education, and Extension Service (CSREES) | National Institute of Food and Agriculture (NIFA).
3402.1(a) | by CSREES | by NIFA.
3402.3 | CSREES | NIFA.
3402.6(a) | Each application must include a “Proposal Cover Page” (Form CSREES-2002), “Project Summary” (Form CSREES-2003), “Budget” (Form CSREES-2004) and National Environmental Policy Act Exclusions Form (Form CSREES—2006) | Each application must include a “Proposal Cover Page” (Form NIFA-2002), “Project Summary” (Form NIFA-2003), “Budget” (Form NIFA-2004) and National Environmental Policy Act Exclusions Form (Form NIFA—2006).
3402.7(a)(4)(i) | CSREES | NIFA.
3402.7(b) | CSREES | NIFA.
3402.10 | CSREES | NIFA.
3402.11 | Form CSREES-2002 | Form NIFA-2002.
3402.12 | Form CSREES-2003 | Form NIFA-2003.
3402.14 | Form CSREES-2004 | Form NIFA-2004.
3402.20 | CSREES | NIFA.
3402.21 | CSREES | NIFA.
3402.23(a) | Form CSREES-2010 | Form NIFA-2010.
3402.23(a) | CSREES | NIFA.
3402.23(b) | CSREES' | NIFA's.
3402.23(b) | CSREES | NIFA.
3402.23(b) | http://cris.csrees.usda.gov | http://cris.nifa.usda.gov.

PART 3403—SMALL BUSINESS INNOVATION RESEARCH GRANTS PROGRAM

45. The authority citation for part 3403 continues to read as follows:

Authority: 15 U.S.C. 638.

§§ 3403.1, 3403.9, 3403.13, 3403.14, 3403.15 [Amended]

46. In the table below, for each section indicated in the left column, remove the term or phrase indicated in the middle column from wherever it appears in the section, and add the term or phrase indicated in the right column:

Section | Remove | Add
3403.1(a) | CSREES | NIFA.
3403.9 | CSREES | NIFA.
3403.13(a)(11) | CSREES | NIFA.
3403.14(b)(2) | CSREES | NIFA.
3403.14(b)(3) | CSREES | NIFA.
3403.14(b)(4) | CSREES | NIFA.
3403.14(c) | CSREES | NIFA.
3403.14(e)(1) | CSREES | NIFA.
3403.14(e)(1)(ii)(C) | CSREES | NIFA.
3403.14(e)(1)(iii) | CSREES | NIFA.
3403.14(e)(1)(iii) | COOPERATIVE STATE RESEARCH, EDUCATION, AND EXTENSION SERVICE | NATIONAL INSTITUTE OF FOOD AND AGRICULTURE.
3403.14(e)(2)(iii)(E) | COOPERATIVE STATE RESEARCH, EDUCATION, AND EXTENSION SERVICE | NATIONAL INSTITUTE OF FOOD AND AGRICULTURE.
3403.15 | CSREES | NIFA.

46a. Amend § 3403.2 by:

a. Removing the definition of CSREES; and

b. Adding a definition of NIFA in alphabetical order to read as follows:

§ 3403.2 Definitions.

* * * * *

NIFA means the National Institute of Food and Agriculture.

* * * * *

PART 3404—PUBLIC INFORMATION

47. The authority citation for part 3404 continues to read as follows:

Authority: 5 U.S.C. 301, 552; 7 CFR part 1, subpart A and appendix A thereto.

§§ 3404.1, 3404.2, 3404.3, 3404.4, 3404.6 [Amended]

48. In the table below, for each section indicated in the left column, remove the term or phrase indicated in the middle column from wherever it appears in the section, and add the term or phrase indicated in the right column:

Section | Remove | Add
3404.1 | Cooperative State Research, Education, and Extension Service (CSREES) | National Institute of Food and Agriculture (NIFA).
3404.2 | CSREES | NIFA.
3404.3 | CSREES | NIFA.
3404.3 | e-mail vherberger@ars.usda.gov or shutchison@ars.usda.gov. | or E-mail shutchison@ars.usda.gov.
3404.4(a) | CSREES | NIFA.
3404.4(b) | CSREES | NIFA.
3404.4(d) | CSREES | NIFA.
3404.6 | Administrator, CSREES | Director, NIFA.

PART 3405—HIGHER EDUCATION CHALLENGE GRANTS PROGRAM

49. The authority citation for part 3405 continues to read as follows:

Authority: Sec. 1470, National Agricultural Research, Extension, and Teaching Policy Act of 1977, as amended (7 U.S.C. 3316).

§§ 3405.1, 3405.2, 3405.4, 3405.5, 3405.11, 3405.12, 3405.16, 3405.17, 3405.22 [Amended]

50. In the table below, for each section indicated in the left column, remove the term or phrase indicated in the middle column from wherever it appears in the section, and add the term or phrase indicated in the right column:

Section | Remove | Add
3405.1(a) | Administrator of the Cooperative State Research, Education, and Extension Service (CSREES) | Director of the National Institute of Food and Agriculture (NIFA).
3405.1(b) | CSREES | NIFA.
3405.1(c)(1) | CSREES | NIFA.
3405.1(c)(2) | Form CSREES-711 | Form NIFA-711.
3405.1(d)(1) | CSREES | NIFA.
3405.1(d)(2) | CSREES | NIFA.
3405.2(j) | CSREES | NIFA.
3405.4 | CSREES | NIFA.
3405.5 | CSREES | NIFA.
3405.11(a)(1) | Form CSREES-712 | Form NIFA-712.
3405.11(a)(1) | CSREES | NIFA.
3405.11(a)(2) | Form CSREES-712 | Form NIFA-712.
3405.11(a)(4) | Form CSREES-712 | Form NIFA-712.
3405.11(a)(5) | Form CSREES-712 | Form NIFA-712.
3405.11(a)(6) | Form CSREES-712 | Form NIFA-712.
3405.11(a)(7) | Form CSREES-712 | Form NIFA-712.
3405.11(d)(1) | Form CSREES-712 | Form NIFA-712.
3405.11(f) | Form CSREES-708 | Form NIFA-708.
3405.11(g)(1)(i) | Form CSREES-713 | Form NIFA-713.
3405.11(g)(2)(i) | Form CSREES-713 | Form NIFA-713.
3405.11(g)(2)(ii) | Form CSREES-713 | Form NIFA-713.
3405.11(g)(2)(iv) | Form CSREES-713 | Form NIFA-713.
3405.11(g)(3) | Form CSREES-713 | Form NIFA-713.
3405.11(h) | Form CSREES-663 | Form NIFA-663.
3405.11(i) | Form CSREES-712 | Form NIFA-712.
3405.12 | CSREES | NIFA.
3405.12 | Form CSREES-711 | Form NIFA-711.
3405.16 | CSREES | NIFA.
3405.17(d) | CSREES | NIFA.
3405.22 | CSREES | NIFA.

PART 3406—1890 INSTITUTION CAPACITY BUILDING GRANTS PROGRAM

51. The authority citation for part 3406 continues to read as follows:

Authority: Sec. 1470, National Agricultural Research, Extension, and Teaching Policy Act of 1977, as amended (7 U.S.C. 3316).

§§ 3406.1, 3406.4, 3406.5, 3406.6, 3406.13, 3406.18, 3406.21, 3406.23, 3406.24, 3406.29 [Amended]

52. In the table below, for each section indicated in the left column, remove the term or phrase indicated in the middle column from wherever it appears in the section, and add the term or phrase indicated in the right column:

Section | Remove | Add
3406.1(a) | Administrator of the Cooperative State Research, Education, and Extension Service (CSREES) | Director of the National Institute of Food and Agriculture (NIFA).
3406.1(b) | CSREES | NIFA.
3406.1(c)(1) | CSREES | NIFA.
3406.1(c)(2) | Form CSREES-711 | Form NIFA-711.
3406.1(d)(1) | CSREES | NIFA.
3406.1(d)(2) | CSREES | NIFA.
3406.4(d) | CSREES | NIFA.
3406.5 | CSREES | NIFA.
3406.6(b) | CSREES | NIFA.
3406.13(a)(1) | Form CSREES-712 | Form NIFA-712.
3406.13(a)(1) | CSREES | NIFA.
3406.13(a)(2) | Form CSREES-712 | Form NIFA-712.
3406.13(a)(4) | Form CSREES-712 | Form NIFA-712.
3406.13(a)(5) | Form CSREES-712 | Form NIFA-712.
3406.13(a)(6) | Form CSREES-712 | Form NIFA-712.
3406.13(a)(7) | Form CSREES-712 | Form NIFA-712.
3406.13(e)(1)(i) | Form CSREES-712 | Form NIFA-712.
3406.13(g) | Form CSREES-708 | Form NIFA-708.
3406.13(h)(1)(i) | Form CSREES-713 | Form NIFA-713.
3406.13(h)(2)(i) | Form CSREES-713 | Form NIFA-713.
3406.13(h)(2)(ii) | Form CSREES-713 | Form NIFA-713.
3406.13(h)(2)(iv) | Form CSREES-713 | Form NIFA-713.
3406.13(h)(3)(i)(C) | Form CSREES-713 | Form NIFA-713.
3406.13(i) | Form CSREES-663 | Form NIFA-663.
3406.13(j) | Form CSREES-712 | Form NIFA-712.
3406.18(a)(1) | Form CSREES-712 | Form NIFA-712.
3406.18(a)(1) | CSREES | NIFA.
3406.18(a)(2) | Form CSREES-712 | Form NIFA-712.
3406.18(a)(4) | Form CSREES-712 | Form NIFA-712.
3406.18(a)(5) | Form CSREES-712 | Form NIFA-712.
3406.18(a)(6) | Form CSREES-712 | Form NIFA-712.
3406.18(a)(7) | Form CSREES-712 | Form NIFA-712.
3406.18(e)(1)(i) | Form CSREES-712 | Form NIFA-712.
3406.18(g) | Form CSREES-710 | Form NIFA-710.
3406.18(h)(1)(i) | Form CSREES-713 | Form NIFA-713.
3406.18(h)(2)(i) | Form CSREES-713 | Form NIFA-713.
3406.18(h)(2)(ii) | Form CSREES-713 | Form NIFA-713.
3406.18(h)(2)(iv) | Form CSREES-713 | Form NIFA-713.
3406.18(h)(3)(i)(C) | Form CSREES-713 | Form NIFA-713.
3406.18(i) | Form CSREES-663 | Form NIFA-663.
3406.18(j) | Form CSREES-712 | Form NIFA-712.
3406.18(k) | Form CSREES-662 | Form NIFA-662.
3406.18(k)(1) | Form CSREES-712 | Form NIFA-712.
3406.18(k)(1) | Form CSREES-662 | Form NIFA-662.
3406.18(k)(1) | CSREES | NIFA.
3406.18(k)(2) | CSREES | NIFA.
3406.18(k)(2) | Form CSREES-712 | Form NIFA-712.
3406.18(k)(2) | Form CSREES-662 | Form NIFA-662.
3406.18(k)(3) | CSREES | NIFA.
3406.18(k)(3) | Form CSREES-712 | Form NIFA-712.
3406.18(k)(3) | Form CSREES-662 | Form NIFA-662.
3406.18(l) | Cooperative State Research, Education, and Extension Service | National Institute of Food and Agriculture.
3406.18(l) | CSREES | NIFA.
3406.18(l)(1) | CSREES | NIFA.
3406.18(l)(1) | Form CSREES-1234 | Form NIFA-1234.
3406.18(l)(2) | CSREES | NIFA.
3406.21 | CSREES | NIFA.
3406.21 | Form CSREES-711 | Form NIFA-711.
3406.23 | CSREES | NIFA.
3406.24(d) | CSREES | NIFA.
3406.29 | CSREES | NIFA.

52a. Amend § 3406.2 by revising the definition of Eligible participant to read as follows:

§ 3406.2 Definitions.

* * * * *

Eligible participant means, for purposes of § 3406.11(b), Faculty Preparation and Enhancement for Teaching, and § 3406.11(f), Student Recruitment and Retention, an individual who:

(1) Is a citizen or national of the United States, as defined in this section; or

(2) Is a citizen of the Federated States of Micronesia, the Republic of the Marshall Islands, or the Republic of Palau. Where eligibility is claimed under paragraph (2) of the definition of “citizen or national of the United States” as specified in this section, documentary evidence from the Immigration and Naturalization Service as to such eligibility must be made available to NIFA upon request.

* * * * *

PART 3407—IMPLEMENTATION OF NATIONAL ENVIRONMENTAL POLICY ACT

53. The authority citation for part 3407 continues to read as follows:

Authority: National Environmental Policy Act of 1969, as amended, 42 U.S.C. 4321 et seq.; E.O. 11514, 34 FR 4247, as amended by E.O. 11991, 42 FR 26927; E.O. 12144, 44 FR 11957; 5 U.S.C. 301; 40 CFR parts 1500-1508; and 7 CFR part 1b.

§§ 3407.2, 3407.3, 3407.4, 3407.5, 3407.6, 3407.7, 3407.8, 3407.9, 3407.10, 3407.11 [Amended]

54. In the table below, for each section indicated in the left column, remove the term or phrase indicated in the middle column from wherever it appears in the section, and add the term or phrase indicated in the right column:

Section | Remove | Add
3407.2(a) | CSREES | NIFA.
3407.3(a) | CSREES | NIFA.
3407.3(d) | CSREES | NIFA.
3407.3(e) | CSREES | NIFA.
3407.3(f) | CSREES | NIFA.
3407.3(i) | CSREES | NIFA.
3407.3(k) | CSREES | NIFA.
3407.4 | CSREES | NIFA.
3407.4(a) | Administrator. | Director.
3407.4(a) | Administrator | Director.
3407.4(b) | Associate Administrators and Deputy Administrators | Deputy Directors and Assistant Directors.
3407.4(b) | Associate Administrators and Deputy Administrators | Deputy Directors and Assistant Directors.
3407.4(b)(1) | CSREES | NIFA.
3407.4(c) | CSREES | NIFA.
3407.4(d)(1) | CSREES' | NIFA's.
3407.5 | CSREES | NIFA.
3407.6(a) | CSREES | NIFA.
3407.6(a)(2) | CSREES categorical exclusions. | NIFA categorical exclusions.
3407.6(a)(2) | CSREES | NIFA.
3407.6(b) | CSREES | NIFA.
3407.7(a) | CSREES | NIFA.
3407.8 | CSREES | NIFA.
3407.9 | CSREES | NIFA.
3407.9(c) | CSREES | NIFA.
3407.10(a) | CSREES | NIFA.
3407.10(b) | CSREES | NIFA.
3407.10(c) | CSREES | NIFA.
3407.11(b) | CSREES | NIFA.
3407.11(d) | CSREES | NIFA.
3407.11(e) | CSREES | NIFA.

PART 3411—NATIONAL RESEARCH INITIATIVE COMPETITIVE GRANTS PROGRAM [RESERVED]

55. Remove and reserve part 3411 as set forth above.

PART 3415—BIOTECHNOLOGY RISK ASSESSMENT RESEARCH GRANTS PROGRAM

56. The authority citation for part 3415 continues to read as follows:

Authority: 5 U.S.C. 301 and 7 U.S.C. 5921.

§§ 3415.1, 3415.2, 3415.4, 3415.5, 3415.6, 3415.7, 3415.8, 3415.9, 3415.10, 3415.14 [Amended]

57. In the table below, for each section indicated in the left column, remove the term or phrase indicated in the middle column from wherever it appears in the section, and add the term or phrase indicated in the right column:

Section | Remove | Add
3415.1(a) | Administrators of CSREES and ARS | Director of NIFA and Administrator of ARS.
3415.2(c) | Administrator | Director or Administrator.
3415.2(h) [as redesignated below] | Administrator | Director or Administrator.
3415.2(k) [as redesignated below] | Administrator | Director or Administrator.
3415.2(m) [as redesignated below] | Administrator | Director or Administrator.
3415.4(c)(1) | Form CSREES-661 | Form NIFA-661.
3415.4(c)(1) | Form CSREES-661 | Form NIFA-661.
3415.4(c)(5) | Administrator | Director or Administrator.
3415.4(d)(1) | Form CSREES-661 | Form NIFA-661.
3415.4(d)(1) | Form CSREES-661 | Form NIFA-661.
3415.4(d)(9) | Form CSREES-55 | Form NIFA-55.
3415.4(d)(10)(i) | Form CSREES-662 | Form NIFA-662.
3415.4(d)(10)(ii) | Form CSREES-662 | Form NIFA-662.
3415.4(d)(10)(iii) | Form CSREES-662 | Form NIFA-662.
3415.4(d)(11) | Administrator | Director or Administrator.
3415.4(d)(11) | Form CSREES-663 | Form NIFA-663.
3415.4(d)(12) | Administrator | Director or Administrator.
3415.5(a) | Administrator | Director or Administrator.
3415.5(a) | CSREES | NIFA.
3415.5(b) | Administrator's | Director's or Administrator's.
3415.5(b) | Administrator | Director or Administrator.
3415.6(a) | CSREES | NIFA.
3415.6(a) | Administrator | Director or Administrator.
3415.6(b)(1)(i) | Administrator | Director or Administrator.
3415.6(b)(1)(vi) | Administrator | Director or Administrator.
3415.6(b)(1)(ix) | CSREES | NIFA.
3415.6(c)(1) | CSREES | NIFA.
3415.6(c)(2) | CSREES | NIFA.
3415.6(c)(3) | CSREES | NIFA.
3415.6(d) | CSREES | NIFA.
3415.6(d)(1) | CSREES | NIFA.
3415.6(d)(2) | CSREES | NIFA.
3415.7(b)(1) | CSREES | NIFA.
3415.7(b)(2) | CSREES | NIFA.
3415.7(b)(3) | CSREES | NIFA.
3415.7(b)(4) | CSREES | NIFA.
3415.7(c) | CSREES | NIFA.
3415.7(d) | CSREES | NIFA.
3415.8 | CSREES | NIFA.
3415.9 | Administrator | Director or Administrator.
3415.9 | Administrator's | Director's or Administrator's.
3415.10 | Administrator | Director or Administrator.
3415.14(b) | Administrator | Director or Administrator.
3415.14(d) | CSREES | NIFA.

57a. Amend § 3415.2 by:

a. Revising paragraph (b);

b. Redesignating paragraphs (g) through (n) as paragraphs (h) through (o); and

c. Adding a new paragraph (g) to read as follows:

§ 3415.2 Definitions.

* * * * *

(b) Administrator means the Administrator of the Agricultural Research Service (ARS) and any other officer or employee of the Department of Agriculture to whom the authority involved may be delegated.

* * * * *

(g) Director means the Director of the National Institute of Food and Agriculture (NIFA) and any other officer or employee of the Department of Agriculture to whom the authority involved may be delegated.

* * * * *

PART 3430—COMPETITIVE AND NONCOMPETITIVE NON-FORMULA FEDERAL ASSISTANCE PROGRAMS—GENERAL AWARD ADMINISTRATIVE PROVISIONS

58. The authority citation for part 3430 continues to read as follows:

Authority: 7 U.S.C. 3316; Pub. L. 106-107 (31 U.S.C. 6101 note).

§§ 3430.1, 3430.3, 3430.4, 3430.11, 3430.12, 3430.13, 3430.14, 3430.15, 3430.16, 3430.17, 3430.18, 3430.19, 3430.20, 3430.31, 3430.32, 3430.33, 3430.34, 3430.35, 3430.36, 3430.41, 3430.42, 3430.51, 3430.52, 3430.53, 3430.55, 3430.56, 3430.57, 3430.58, 3430.59, 3430.60, 3430.61, 3430.62, 3430.63, 3430.201, 3430.204, 3430.604, 3430.607, 3430.608, 3430.609 [Amended]

59. In the table below, for each section indicated in the left column, remove the term or phrase indicated in the middle column from wherever it appears in the section, and add the term or phrase indicated in the right column:

Section | Remove | Add
3430.1(a) | Cooperative State Research, Education, and Extension Service (CSREES) | National Institute of Food and Agriculture (NIFA).
3430.1(b) | CSREES | NIFA.
3430.1(b) | Administrator | Director.
3430.1(c) | CSREES | NIFA.
3430.1(c) | Administrator | Director.
3430.1(f) | CSREES | NIFA.
3430.3 | CSREES | NIFA.
3430.4 | CSREES | NIFA.
3430.11(a) | CSREES | NIFA.
3430.11(b) | CSREES | NIFA.
3430.12(a) | CSREES | NIFA.
3430.12(c) | CSREES | NIFA.
3430.13(a) | CSREES | NIFA.
3430.13(b) | CSREES | NIFA.
3430.14(a) | CSREES | NIFA.
3430.14(a)(2) | CSREES | NIFA.
3430.14(a)(3) | CSREES | NIFA.
3430.14(a)(6) | CSREES | NIFA.
3430.14(b) | CSREES | NIFA.
3430.14(b)(1) | CSREES | NIFA.
3430.14(b)(2) | CSREES | NIFA.
3430.14(b)(3) | CSREES | NIFA.
3430.14(b)(4) | CSREES | NIFA.
3430.15 | CSREES | NIFA.
3430.16(b)(1) | CSREES | NIFA.
3430.16(b)(2) | CSREES | NIFA.
3430.16(c) | CSREES | NIFA.
3430.17 | CSREES | NIFA.
3430.18(a) | CSREES | NIFA.
3430.18(c) | CSREES | NIFA.
3430.19(a)(1)(i) | CSREES-assigned | NIFA-assigned.
3430.19(b)(1) | CSREES | NIFA.
3430.19(b)(2) | CSREES | NIFA.
3430.20 | CSREES | NIFA.
3430.31 | CSREES | NIFA.
3430.32 | CSREES | NIFA.
3430.33(a) | CSREES | NIFA.
3430.33(b) | CSREES Peer Review System | NIFA Peer Review System.
3430.33(b) | CSREES | NIFA.
3430.33(d) | CSREES | NIFA.
3430.33(e) | CSREES | NIFA.
3430.34(a) | CSREES | NIFA.
3430.35(b) | CSREES | NIFA.
3430.36 | CSREES | NIFA.
3430.36 | Administrator | Director.
3430.41(a) | CSREES | NIFA.
3430.41(b) | Form CSREES-2009 | Form NIFA-2009.
3430.41(b)(1) | Administrator | Director.
3430.41(b)(4) | CSREES | NIFA.
3430.41(b)(6) | CSREES | NIFA.
3430.41(b)(10) | CSREES | NIFA.
3430.42(a) | CSREES | NIFA.
3430.42(b) | CSREES | NIFA.
3430.42(c) | Form CSREES-2009, Award Face Sheet | Form NIFA-2009, Award Face Sheet.
3430.42(c) | Form CSREES-2009 | Form NIFA-2009.
3430.42(d) | CSREES | NIFA.
3430.51(b) | CSREES | NIFA.
3430.52(a) | CSREES | NIFA.
3430.53(a) | CSREES | NIFA.
3430.53(b) | CSREES | NIFA.
3430.55(c) | Form CSREES-2009 | Form NIFA-2009.
3430.55(e) | http://cris.csrees.usda.gov | http://cris.nifa.usda.gov.
3430.55(f) | Form CSREES-2009 | Form NIFA-2009.
3430.56(a) | CSREES | NIFA.
3430.56(b) | Form CSREES-2009 | Form NIFA-2009.
3430.56(d) | CSREES | NIFA.
3430.56(f) | CSREES | NIFA.
3430.56(f) | Form CSREES-2009 | Form NIFA-2009.
3430.57 | CSREES | NIFA.
3430.58(b)(1) | CSREES | NIFA.
3430.58(b)(3) | CSREES | NIFA.
3430.59(a) | CSREES | NIFA.
3430.59(b) | CSREES | NIFA.
3430.59(c) | CSREES | NIFA.
3430.59(d) | CSREES | NIFA.
3430.59(e) | CSREES | NIFA.
3430.59(e) | Deputy Administrator | Assistant Director.
3430.60(a) | CSREES | NIFA.
3430.60(b) | CSREES | NIFA.
3430.60(c) | CSREES | NIFA.
3430.61 | CSREES | NIFA.
3430.62(a) | CSREES | NIFA.
3430.62(b) | CSREES | NIFA.
3430.62(c) | CSREES | NIFA.
3430.62(c) | Deputy Administrator | Assistant Director.
3430.63(a) | CSREES awards supported with agency appropriations | NIFA awards supported with agency appropriations.
3430.63(a) | CSREES | NIFA.
3430.63(b) | CSREES awards supported with funds from other Federal agencies (reimbursable funds) | NIFA awards supported with funds from other Federal agencies (reimbursable funds).
3430.63(b) | CSREES | NIFA.
3430.201(b) | CSREES | NIFA.
3430.204 | CSREES | NIFA.
3430.604(a) | CSREES | NIFA.
3430.607 | CSREES | NIFA.
3430.608(a) | CSREES | NIFA.
3430.608(b) | CSREES | NIFA.
3430.608(c) | CSREES | NIFA.
3430.609(a) | CSREES | NIFA.
3430.904 | CSREES | NIFA.
3430.907 | CSREES | NIFA.
3430.908 | CSREES | NIFA.

59a. Amend § 3430.2 by:

a. Revising the definitions of Cooperative agreement, Non-citizen national of the United States, Program announcement, and Program Officer;

b. Removing the definition of Administrator; and

c. Adding a definition of Director in alphabetical order to read as follows:

§ 3430.2 Definitions.

* * * * *

Cooperative agreement means the award by the Authorized Departmental Officer of funds to an eligible awardee to assist in meeting the costs of conducting for the benefit of the public, an identified project which is intended and designed to accomplish the purpose of the program as identified in the program solicitation or RFA, and where substantial involvement is expected between NIFA and the awardee when carrying out the activity contemplated in the agreement.

* * * * *

Director means the Director of NIFA and any other officer or employee of NIFA to whom the authority involved is delegated.

* * * * *

Non-citizen national of the United States means the award by the Authorized Departmental Officer of funds to an eligible awardee to assist in meeting the costs of conducting for the benefit of the public, an identified project which is intended and designed to accomplish the purpose of the program as identified in the program solicitation or RFA, and where substantial involvement is expected between NIFA and the awardee when carrying out the activity contemplated in the agreement.

* * * * *

Program announcement (PA) means a detailed description of the RFA without the associated application package(s). NIFA will not solicit or accept applications in response to a PA.

* * * * *

Program Officer means a NIFA individual (often referred to as a National Program Leader) who is responsible for the technical oversight of the award on behalf of the Department.

* * * * *

Done in Washington, DC, on January 3, 2011.
Thomas J. Vilsack,
Secretary of Agriculture.

[FR Doc. 2011-1701 Filed 1-26-11; 8:45 am]

BILLING CODE 3410-22-P